DEPARTMENT OF HEALTH AND HUMAN SERVICES

National Institutes of Health

Center for Scientific Review; Amended Notice of Meeting

Notice is hereby given of a change in the meeting of the Center for Scientific Review Special Emphasis Panel; Member Conflict: Community Level Health Promotion and Behavior and Implementation Research. June 17, 2020, 09:00 a.m. to June 17, 2020, 06:00 p.m., National Institutes of Health, Rockledge II, 6701 Rockledge Drive, Bethesda, MD, 20892 which was published in the Federal Register on May 12, 2020, 85 FR 28018.

The meeting format is being updated to a Video Assistant Meeting. Meeting dates and time remain the same. The meeting is closed to the public.

Dated: May 26, 2020.
Miguelina Perez,
Program Analyst, Office of Federal Advisory Committee Policy.

[FR Doc. 2020-11622 Filed 5-28-20; 8:45 am]

BILLING CODE 4140-01-P